NUCLEAR REGULATORY COMMISSION

Advisory Committee on Reactor Safeguards Subcommittee Meeting on Thermal-Hydraulic Phenomena; Revised

The ACRS Subcommittee meeting on Thermal-Hydraulic Phenomena scheduled for March 14-15, 2000, has been changed to a one-day meeting on March 15, 2000, 8:30 a.m., Room T-2B3, 11545 Rockville Pike, Rockville, Maryland. During this session, the Subcommittee will: (1) Begin review of the thermal-hydraulic issues associated with the pressurized thermal shock (PTS) Screening Criterion Reevaluation Project being conducted by NRC Office of Nuclear Regulatory Research (RES); (2) discuss the NRC staff acceptance review of the Siemens S-RELAP5 and GE Nuclear Energy TRACG codes; and (3) discuss the status of the NRC staff's review of the EPRI RETRAN-3D code. The purpose of this meeting is to gather information, analyze relevant issues and facts, and to formulate proposed positions and actions, as appropriate, for deliberation by the full Committee.

Notice of this meeting was published in the Federal Register on Friday, February 18, 2000 (65 FR 10122). All other items pertaining to this meeting remain the same as previously published.

For further information contact: Mr. Paul A. Boehnert, cognizant ACRS staff engineer, (telephone 301/415-8065) between 7:30 a.m. and 4:45 p.m. (EST).

Dated: March 1, 2000.
Howard J. Larson,
Acting Associate Director for Technical Support, ACRS/ACNW.

[FR Doc. 00-5472 Filed 3-6-00; 8:45 am]

BILLING CODE 7590-01-P